DEPARTMENT OF COMMERCE

National Oceanic and Atmospheric Administration

50 CFR Part 648

[Docket No. 050125017-5068-02; I.D. 011905E]

RIN 0648-AR57

Fisheries of the Northeastern United States; Atlantic Bluefish Fishery; Specifications

AGENCY: National Marine Fisheries Service (NMFS), National Oceanic and Atmospheric Administration (NOAA), Commerce.

ACTION: Final rule.

SUMMARY: NMFS issues 2005 specifications for the Atlantic bluefish fishery, including state-by-state commercial quotas, a recreational harvest limit, and recreational possession limits for Atlantic bluefish off the east coast of the United States. The final specifications for the fishing year (FY) 2005 are a commercial quota of 10.398 million lb (4.716 million kg), and a recreational harvest limit of 20.157 million lb (9.143 million kg), as adjusted by the research set-aside quota (RSA) of 297,750 lb (135,057 kg). The intent of these specifications is to establish the allowable 2005 harvest levels and possession limits to attain the target fishing mortality rate (F), consistent with the stock rebuilding program in Amendment 1 to the Atlantic Bluefish Fishery Management Plan (FMP).

DATES: Effective April 20, 2005, through December 31, 2005.

ADDRESSES: Copies of the specifications document, including the Environmental Assessment (EA), Regulatory Impact Review (RIR), and the Initial Regulatory Flexibility Analysis (IRFA) are available from Daniel Furlong, Executive Director, Mid-Atlantic Fishery Management Council, Room 2115, Federal Building, 300 South Street, Dover, DE 19901-6790. The specifications document is also accessible via the Internet at http://www.nero.nmfs.gov. The Final Regulatory Flexibility Analysis (FRFA) consists of the IRFA, public comments and responses contained in this final rule, and a summary of impacts and alternatives contained in this final rule. The small entity compliance guide is available from Patricia A. Kurkul, Regional Administrator, Northeast Regional Office, National Marine Fisheries Service, One Blackburn Drive, Gloucester, MA 01930-2298. The 39th Stock Assessment Review Committee (SARC) Panelist Reports are available at: http://www.nefsc.noaa.gov/nefsc/saw/saw39/.

FOR FURTHER INFORMATION CONTACT: Bonnie Van Pelt, Fishery Policy Analyst, (978) 281-9244, fax at (978) 281-9135.

SUPPLEMENTARY INFORMATION: Regulations implementing the FMP appear at 50 CFR part 648, subparts A and J. Regulations requiring annual specifications are found at § 648.160. The FMP requires that the Mid-Atlantic Fishery Management Council (Council) recommend, on an annual basis, total allowable landings (TAL) for the fishery, consisting of a commercial quota and recreational harvest limit.

The assessment and surplus production model approach was approved by the Council's Scientific and Statistical Committee for updating the analyses used by the Atlantic States Marine Fisheries Commission (Commission) and the Council's Bluefish Monitoring Committee (Monitoring Committee) for annual quota setting. Based on the recommendations of the Monitoring Committee, the Council's Bluefish Committee makes a recommendation to the Council, which in turn makes a recommendation to the Regional Administrator. The Regional Administrator reviews the recommendation and may revise it, if necessary, to achieve the FMP objectives. In addition, because the FMP is a joint plan with the Commission, the Commission's Bluefish Board adopts complementary measures through a state-by-state quota system. In August 2004, the Monitoring Committee and Council concurred that the current regulations are sufficient to ensure that the 2005 TAL would not be exceeded.

This rule implements final specifications for the Atlantic bluefish fishery for 2005 that are unchanged from the proposed specifications published on February 8, 2005 (70 FR 6608). A complete discussion of the development of these specifications is included in the proposed rule and is not repeated here. These measures are the same as those implemented for 2005 by the states under the Commission's Interstate Fishery Management Plan.

Final Specifications

Stock Assessment

In June 2004, the Northeast Fisheries Science Center (NEFSC) Stock Assessment Workshop (SAW 39) reviewed an updated assessment for bluefish. The peer review process of SAW 39 rejected the revised assessment results, concluding that the model provided no concrete evidence of bluefish stock status. The workshop panelists advised that, because the 2003 assessment was rejected and the status of the stock unknown, the total allowable landing specifications should continue at 2004 levels (see ADDRESSES for link to panelist reports).

2005 TAL

The FMP requires that the annual harvest be set based upon either the target fishing mortality rate (F) specified in the FMP (0.31 for 2005) or the most recent estimate of F, whichever is lower. The 2005 recommendation is based on the estimate of F from 2002; F = 0.184. More recent estimates of F are not available because stock assessments have been considered unreliable. Projection results indicated that the bluefish stock biomass would increase from an estimated 129.367 million lb (58.7 million kg) in 2003, to 165.853 million lb (75.2 million kg) in 2004. The estimated 2004 biomass had an associated yield of 34.215 million lb (15.5 million kg) in 2004. The best information available indicates that the Total Allowable Catch (TAC) of 34.215 million lb (15.5 million kg) could achieve the target fishing mortality rate (F = 0.184) in 2005, based on an estimated biomass of 207.785 million lb (94.2 million kg) in 2005.

The TAL for 2005 is derived by subtracting estimated discards of 3.362 million lb (1.542 million kg) from the TAC. After subtracting discards, the 2005 TAL is roughly 4 percent less than that allocated in 2004, or 30.853 million lb (13.994 million kg). Based strictly on the percentages specified in the FMP (17 percent commercial, 83 percent recreational), the commercial quota would be 5.245 million lb (2.379 million kg), and the recreational harvest limit would be 25.608 million lb (11.615 million kg). In addition, up to 3 percent of the TAL may be allocated as RSA. The discussion below describes how the TAL is allocated to the commercial and recreational sectors, and then adjusted downward proportionally to account for any approved bluefish RSA.

Commercial Quota and Recreational Harvest Limit

The FMP specifies that, if 17 percent of the TAL is less than 10.50 million lb (4.76 million kg), and the recreational fishery is not projected to land its harvest limit for the upcoming year, the commercial fishery may be allocated up to 10.50 million lb (4.76 million kg) as its quota, provided that the combination of the projected recreational landings and the commercial quota does not exceed the TAL. Consistent with the FMP and regulations governing the bluefish fishery, the Council recommended, and NMFS approved, a transfer of 5.254 million lb (2.383 million kg) from the initial 2005 recreational allocation of 25.608 million lb (11.615 million kg), resulting in a recreational harvest limit of 20.353 million lb (9.232 million kg). This transfer is based on recreational harvest information over the last 10 years that indicates bluefish landings have ranged between 8.3 and 15.5 million lb (3.74 and 7.05 million kg). In addition, there is no reason to expect that landings will increase to the recreational harvest limit of 25.608 million lb (11.615 million kg) in 2005. Therefore, NMFS increases the 2005 commercial allocation for bluefish to 10.5 million lb (4.76 million kg), the same as was allocated in 2004. The increase is being implemented by the states under the Commission's Interstate FMP for Atlantic Bluefish.

RSA

A request for proposals was published in the Federal Register to solicit research proposals for 2005 that could utilize RSA, based on research priorities identified by the Council (March 9, 2004; 69 FR 10990). One research project that would utilize bluefish RSA quota was approved by the NOAA Grants Office. The FMP allows the Council and NMFS to allocate up to 3 percent of the TAL as RSA, to support fishery research. Therefore, a 297,750-lb (135,057-kg) RSA is specified for 2005; less than 1 percent of the total allowed under the FMP. Accounting for the RSA, in an amount proportional to the commercial and recreational allocation after the quota transfer, the final adjusted commercial quota for 2005 is 10.398 million lb (4.716 million kg) and the adjusted recreational harvest limit is 20.157 million lb (9.143 million kg).

Recreational Possession Limit

A possession limit of 15 fish will be maintained for the 2005 FY.

State Commercial Allocations

Proposed state commercial allocations for the recommended 2005 commercial quota are shown in Table 1 (below), based on the percentages specified in the FMP. The table shows the allocations both before and after the deduction made to reflect the proposed RSA allocation.

Table 1.—Final Bluefish Commercial State-by-State Allocations for 2005
States | Quota percent share | 2005 Commercial quota: (lb) | 2005 Commercial quota: (kg) | 2005 Commercial quota (lb) with research set-aside | 2005 Commercial quota (kg) with research set-aside
ME | 0.6685 | 70,193 | 31,839 | 69,515 | 31,532
NH | 0.4145 | 43,523 | 19,742 | 43,102 | 19,551
MA | 6.7167 | 705,254 | 319,901 | 698,448 | 316,811
RI | 6.8081 | 714,851 | 324,254 | 707,952 | 321,122
CT | 1.2663 | 132,962 | 60,311 | 131,678 | 59,728
NY | 10.3851 | 1,090,436 | 494,618 | 1,079,912 | 489,840
NJ | 14.8162 | 1,555,701 | 705,661 | 1,540,688 | 698,844
DE | 1.8782 | 197,211 | 89,454 | 195,308 | 88,590
MD | 3.0018 | 315,189 | 142,969 | 312,147 | 141,588
VA | 11.8795 | 1,247,348 | 565,793 | 1,235,310 | 560,327
NC | 32.0608 | 3,366,384 | 1,526,982 | 3,333,897 | 1,512,231
SC | 0.0352 | 3,696 | 1,676 | 3,660 | 1,660
GA | 0.0095 | 998 | 452 | 988 | 448
FL | 10.0597 | 1,056,269 | 479,120 | 1,046,075 | 474,492
Total ¹ | 100.0001 | 10,500,000 | 4,762,769 | 10,398,671 | 4,716,759
¹ Kilograms are as converted from pounds and due to rounding may not necessarily add as they appear.

Comments and Responses

The following two comments were received concerning the February 8, 2005 (70 FR 6608) proposed rule.

Comment: One commenter expressed general support for environmental reforms and marine sanctuaries. The commenter indicated that the commercial fishery landings information was unreliable and biased and that these catch statistics result in correspondingly high quota allocations to the commercial sector. The commenter suggested that the TAC be reduced by 50 percent and by 10 percent in each subsequent year. The commenter did not support the use of research quotas.

Response: This final rule is designed to provide for the fair and efficient use of the Federal bluefish quotas. While NMFS acknowledges the importance of the issues raised by the commenter, those of a general nature are outside the scope of this rulemaking. The commenter gave no specific rationale for why the quotas ought to be reduced. There is no known scientific basis for reducing the quotas as suggested by the commenter. The reasons presented by the Council and NMFS for recommending these final specifications are discussed in the preambles to both the proposed and final rules, and sufficient analysis is contained within the supporting documents. This final rule implements measures to reduce bluefish fishing mortality to levels less than those prescribed under the FMP in year 7 of the stock rebuilding plan. These specifications were developed based on the best information available at the time, including, but not limited to: Commercial and recreational catch/landing statistics, current estimates of fishing mortality, stock abundance, discards for the recreational fishery, and juvenile recruitment. Also, the research quota reduces proportionally both the recreational and commercial catch allocations, and provides a unique and equitable mechanism to provide funding for fisheries research while maintaining the TAL at a level that is intended to prevent overfishing of the bluefish stock.

Comment 2: A recreational fishermen expressed opposition to restricting the recreational harvest limits through possession limits without similar restrictions being placed on the commercial sector. Furthermore, the recreational fishermen commented that the recreational creel limit should be reduced from 15 to 10 fish. This comment was conditioned as follows: (1) If there were to be reductions in recreational limits, the commercial fishery should not receive any complementary increases in quota; or (2) if the recreational harvest limit were to remain unchanged, there should be an allowance for no more than 10 adult-sized fish (the remainder would be juveniles).

Response: The Commission and the Council agreed that a possession limit of 15 fish per person is appropriate to limit bluefish mortality to sustainable levels and further rebuild the bluefish stock. Furthermore, the Council recommended, and NMFS, in an exercise of its discretion, transferred quota from the recreational sector to the commercial sector in accordance with the FMP guidelines. Based on the most recent projections of recreational landings, NMFS is confident that the recreational fishery will not land its harvest limit for the upcoming year; therefore, the transfer is allowed.

Classification

This action is authorized by 50 CFR part 648 and has been determined to be not significant for purposes of Executive Order 12866.

Included in this final rule is the Final Regulatory Flexibility Analysis (FRFA) prepared pursuant to section 604(a) of the Regulatory Flexibility Act (RFA). The FRFA describes the economic impact that this final rule will have on small entities and incorporates the IRFA, which is summarized in the proposed rule, the comments and responses to the proposed rule (70 FR 6608, February 8, 2005), and the analyses completed in support of this action. A copy of the EA, RIR, and IRFA are available from the Council (see ADDRESSES).

The preamble to the proposed rule included a detailed summary of the analyses contained in the IRFA, and that discussion is not repeated here.

Final Regulatory Flexibility Analysis

Statement of Objective and Need

A description of the reasons why this action is being considered, and the objectives of, and legal basis for, the final rule is found in the preamble to this final rule.

Summary of Significant Issues Raised in Public Comments

Two comments were submitted on the proposed rule, but were not specific to the IRFA or the economic effects of the rule. NMFS has responded to the comments in the Comments and Responses section of the preamble to this final rule. No changes were made to the final rule as a result of the comments received.

Description and Estimate of Number of Small Entities to Which the Rule Will Apply

An active participant in the commercial bluefish fishery sector is defined as any vessel that reported having landed one or more pounds of bluefish to NMFS-permitted dealers during calendar year 2003. Vessels fishing for bluefish with a Federal permit intending to sell their catch must do so to NMFS-permitted dealers. All vessels affected by this rulemaking have gross receipts less than $3.5 million and are considered to be small entities under the RFA (up to $3.5 million or $5.0 million in gross annual receipts for commercial and recreational activity, respectively). Since there are no large entities participating in this fishery, there are no disproportionate effects resulting from small versus large entities. Since costs are not readily available, vessel profitability cannot be determined directly. Therefore, changes in gross revenue were used as a proxy for profitability.

Of the active, federally permitted vessels in 2003, 856 landed bluefish from Maine to North Carolina. Dealer data do not cover vessel activity from South Carolina to Florida. South Atlantic Trip Ticket Report data indicate that 871 vessels landed bluefish in North Carolina in 2003, including federally permitted vessels and those fishing only in state waters. These data also indicate that bluefish landings in South Carolina and Georgia represented less than 0.1 percent of total landings. Therefore, it is assumed that no vessels landed bluefish from those states. According to South Atlantic Trip Ticket Report data, 413 commercial vessels landed bluefish to dealers on Florida's east coast in 2003 (this may include vessels fishing only in state waters).

In addition, in 2003, approximately 2,063 party/charter vessels may have been active and/or caught bluefish in either state or Federal waters. All of these vessels are considered small entities under the RFA, having gross receipts of less than $5 million annually. Since the recreational possession limits will remain at 15 fish per person, there should be no impact on demand for party/charter vessel fishing, and, therefore, no impact on revenues earned by party/charter vessels.

Description of Projected Reporting, Recordkeeping, and Other Compliance Requirements

No additional reporting, recordkeeping, or other compliance requirements are included in this final rule.

Description of the Steps Taken To Minimize Economic Impact on Small Entities

Specification of commercial quota, recreational harvest levels, and possession limits is constrained by the conservation objectives of the FMP, under the authority of the Magnuson-Stevens Fishery Conservation and Management Act. However, none of the alternatives to these final specifications would further mitigate economic impacts to vessels engaged in the fishery more than the chosen alternative.

The Council analyzed three alternatives. The TAL recommendation and RSA are unchanged in the alternatives, as the TAL is the level that would achieve the target F in 2005 and the RSA is the amount approved through the grants process. The difference between the preferred alternative (Alternative 1) and Alternatives 2 and 3, therefore, relates only to the manner in which the overall TAL is allocated between the commercial and recreational components of the bluefish fishery. These allocations and harvest limits include the RSA adjustment. Under Alternative 1, the commercial quota allocation is 10.398 million lb (4.716 million kg), and the recreational harvest limit is 20.157 million lb (9.143 million kg). Under Alternative 2, the commercial quota allocation would be 5.194 million lb (2.356 million kg) and the recreational harvest limit would be 25.361 million lb (11.504 million kg). Under Alternative 3, the commercial quota allocation would be 9.490 million lb (4.305 million kg) with a recreational harvest limit of 21.065 million lb (9.555 million kg).

The preferred commercial quota alternative represents a 1 percent decrease from the 2004 commercial quota, and is attributed to a difference in discards (the TAC and RSA remain unchanged from last year). The 2005 recreational harvest limit under this alternative would be 5 percent lower than the recreational harvest limit specified for 2004. However, the recreational harvest limit would still be approximately twice the recreational landings in 2003. Bluefish landings for the 1994-2003 period, ranged from 8.3 million lb (3.743 million kg) to 15.541 million lb (7.049 million kg). Comparing the high end of this range to the recreational harvest limits specified in 2004, landings were 7 percent lower than the limit specified for this year (21.150 million lb (9.59 million kg)). A projection based on preliminary recreational data for 2004 indicates that landings will be 22 percent lower than the recreational harvest limit specified for 2004. Based on recreational landing trends, it is anticipated that the recreational fishing sector will land less than 83 percent of the recreational harvest limit for 2005. Therefore, under Alternative 1, no vessels would realize significant revenue reductions.

A total of 853 vessels were projected to incur revenue losses as a result of the proposed commercial quota allocation, with 95 percent of those estimated to incur losses of less than 5 percent, and 50 of these vessels would incur losses greater than 5 percent. The affected entities would be mostly smaller vessels that land bluefish in New York. In addition, economic analysis of recent South Atlantic Trip Ticket Report data indicated small reductions, on average, in revenue for fishermen that land bluefish in North Carolina (0.05 percent). No revenue reduction is expected for vessels that land bluefish in Florida as a consequence of the proposed 2005 quota compared to 2003 landings in that state.

The allocations specified in Alternative 2 represent a 49 percent decrease in the commercial quota from the 2004 commercial quota, and a 20 percent increase in the recreational harvest limit when compared to the harvest limit in 2004. However, due to recent trends in bluefish recreational landings, it is expected that landings in 2005 will be substantially lower than the recreational harvest limit for 2005 under Alternative 1, which is approximately 25 percent less than the recreational harvest level under Alternative 2. The reduction in the commercial quota would cause 23 vessels to have revenue losses of 50 percent or more, while 70 vessels would have revenue losses of from 5 to 49 percent. An additional 460 vessels would incur revenue losses of less than 5 percent of their total ex-vessel revenue. Also, South Atlantic Trip Ticket Report data were evaluated to further assess the economic impacts associated with the change in quota levels in 2005 compared to landings in 2003. This evaluation indicated that, on average, reduction in revenues due to a potential change in the landings level is expected to be small for fishermen that land bluefish in North Carolina (less than 2 percent). No revenue reduction is expected for vessels that land bluefish in Florida as a consequence of the proposed 2005 quota compared to 2003 landings in that state.

Alternative 3 represents a 9 percent decrease in the total allowable commercial landings for bluefish in 2005 versus 2004. The 2004 recreational harvest limit under this alternative would be 34 percent higher than the estimated recreational landings in 2003. Under this scenario, a total of 61 vessels would incur revenue losses of from 5 to 39 percent due to the reduction in the commercial quota. An additional 244 commercial vessels would incur revenue losses of less than 5 percent of their total ex-vessel revenue. The same conclusions as were drawn under Alternative 2 for fishermen that land bluefish in North Carolina and Florida can be applied to this alternative. Table 2 (below) contains a summary of the allocations to the recreational and commercial fisheries under the three alternatives.

Table 2.—Comparison (in lbs) of the Alternatives of Quota Combinations Reviewed
| 2005 Initial TAL | 2005 Initial commercial quota | 2005 Initial recreational harvest limit | 2005 Research set-aside | 2005 Adjusted commercial quota | 2005 Adjusted recreational harvest limit
Quota Alternative 1 (Status Quo/No Action)
Council Preferred Alternative | 30,853,578 | 10,500,000 | 20,353,578 | 297,750 | 10,398,671 | 20,157,157
Quota Alternative 2
Projection Based Alternative | 30,853,578 | 5,245,108 | 25,608,470 | 297,750 | 5,194,491 | 25,361,337
Quota Alternative 3
Based on 1995 to 2000 Commercial TAL | 30,853,578 | 9,583,000 | 21,270,578 | 297,750 | 9,490,520 | 21,065,308

The Council further analyzed the impacts on revenues of the proposed RSA specified in all three alternatives. The social and economic impacts of this proposed RSA are expected to be minimal. Assuming the full RSA is allocated for bluefish, the set-aside amount could be worth as much as $86,348 dockside, based on an average 2003 ex-vessel price of $0.29 per pound for bluefish. Assuming an equal reduction among all 853 active dealer reported vessels, this could mean a reduction of about $101 per individual vessel. Changes in the recreational harvest limit would be insignificant (less than a 1 percent decrease), if 1 percent of the TAL is used for research. It is unlikely that there would be negative economic impacts as a result of the RSA. A full analysis is available from the Council (see ADDRESSES).

Authority: 16 U.S.C. 1801 et seq.

Dated: March 15, 2005.
Rebecca Lent,
Deputy Assistant Administrator for Regulatory Programs, National Marine Fisheries Service.

[FR Doc. 05-5541 Filed 3-18-05; 8:45 am]

BILLING CODE 3510-22-P